DEPARTMENT OF ENERGY

Federal Energy Regulatory Commission

[Docket No. EL08-80-000]

Corporation Commission of the State of Oklahoma, Complainants, v. American Electric Power Company, Inc., American Electric Power Service Corporation, and Public Service Company of Oklahoma, Respondents; Notice of Complaint

August 12, 2008.

Take notice that on August 11, 2008, the Oklahoma Corporation Commission (OCC) filed a formal complaint against American Electric Power Company, Inc., American Electric Power Service Corporation, and Public Service Company of Oklahoma (collectively, Respondents) pursuant to section 206 of the Federal Power Act (FPA), 16 U.S.C. 824e, and Rule 206 of the Commission's Rules of Practice and Procedure, 18 CFR 385.206. The complaint from the OCC states that allegations have been made in various OCC proceedings that Respondent's implementation of the System Integration Agreement Corporation were alleged to be improper in various OCC proceedings and requests that the Commission review the allocation decisions applicable to energy trading margins made by American Electric Power Company, Inc. by and through its agent, American Electric Power Service Corporation.

The OCC certifies that copies of the complaint were served on the contacts for Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 2, 2008.

Nathaniel J. Davis, Sr.,
Deputy Secretary.

[FR Doc. E8-19122 Filed 8-18-08; 8:45 am]

BILLING CODE 6717-01-P